DEPARTMENT OF STATE

[Public Notice: 9847; No. 2016-05]

Determination Pursuant to the Foreign Missions Act

Pursuant to the authority vested in the Secretary of State under the Foreign Missions Act, 22 U.S.C. 4301 et seq. (“the Act”), and delegated pursuant to Department of State Delegation of Authority No. 214 of September 20, 1994, I hereby determine it is reasonably necessary to achieve one or more of the proposes set forth in section 204(b) of the Act (22 U.S.C. 4304(b)) to designate 136 Mill River Road, Upper Brookville, NY, which is owned by the Government of the Russian Federation, as a location and facilities for which entry or access is strictly prohibited by all individuals, including but not limited to representatives or employees of the Russian Government and their dependents, without first obtaining written permission from the Department of State's Office of Foreign Mission (OFM). Such prohibitions will take effect as of noon on December 30, 2016.

As a result, all persons on said property are required to depart the premises no later than the date and time stated above.

For purposes of this determination, 136 Mill River Road, Upper Brookville, NY includes both:

• A 14.06 acre parcel, owned by the Russian Federation, and documented in the records of Nassau County, NY as NYS SWIS Code number 282427;

• Comprised of lot grouping 164A, 164C & 296-297.

Access to the property will be subject to terms and conditions set forth by the Office of Foreign Missions.

Gentry O. Smith,
Director, The Office of Foreign Missions, Department of State.

[FR Doc. 2017-01053 Filed 1-17-17; 8:45 am]

BILLING CODE 4710-43-P